DEPARTMENT OF COMMERCE

International Trade Administration

[A-570-898, A-469-814]

Notice of Postponement of Preliminary Antidumping Duty Determinations: Chlorinated Isocyanurates From the People's Republic of China and Spain

AGENCY: Import Administration, International Trade Administration, Department of Commerce.

ACTION: Postponement of Preliminary Antidumping Duty Determinations.

EFFECTIVE DATE: October 8, 2004.

FOR FURTHER INFORMATION CONTACT: Thomas Killiam (PRC) or Michele Mire (Spain), Import Administration, International Trade Administration, U.S. Department of Commerce, 14th Street and Constitution Avenue NW, Washington, DC 20230; telephone (202) 482-5222 or (202) 482-4711, respectively.

SUMMARY: The Department of Commerce (the Department) is postponing the preliminary determinations in the antidumping duty investigations of chlorinated isocyanurates (isos) from the People's Republic of China (PRC) and Spain. The deadline for issuing the preliminary determinations in these investigations is currently October 21, 2004.

SUPPLEMENTARY INFORMATION:

Background

On June 10, 2004, the Department published the initiation of antidumping duty investigations of chlorinated isos from the PRC and Spain. See Initiation of Antidumping Duty Investigations: Chlorinated Isocyanurates From the People's Republic of China and Spain, 69 FR 32,488 (June 10, 2004). This notice stated that the Department would issue its preliminary determinations no later than 140 days after the date of initiation, which is October 21, 2004.

Postponement of Preliminary Determinations

Pursuant to section 733(c)(1)(A) of the Tariff Act of 1930, as amended (the Act), the petitioner may request a postponement from 140 days to not later than 190 days after the initiation of an investigation. A written request, including reasons for the postponement, may be submitted to the Department at least 25 days prior to the preliminary determination.

On September 16, 2004, Clearon Corporation and Occidental Chemical Corporation, the petitioners to these proceedings, made timely requests pursuant to section 733(c)(1)(A) of the Act and 19 C.F.R. 351.205(e) for postponement of the preliminary determinations in both investigations for 50 days or until December 10, 2004. The petitioners requested postponement of the preliminary determinations so that the petitioners and the Department can analyze more fully the information that has been submitted in these investigations, as well as analyze information that is due to be filed in early October. There are no compelling reasons for the Department to deny these requests.

Therefore, for the reasons identified by the petitioners, and pursuant to section 733(c)(1)(A) of the Act, and 19 CFR 351.205(e), the Department is postponing the deadline for issuing the preliminary determinations until December 10, 2004. The deadline for the final determinations will continue to be 75 days after the date of the preliminary determinations, unless extended.

This notice of postponement is in accordance with section 733(c)(2) of the Act, and 19 CFR 351.205(f)(1).

Dated: October 1, 2004.
James J. Jochum,
Assistant Secretary for Import Administration.

[FR Doc. E4-2555 Filed 10-7-04; 8:45 am]

BILLING CODE 3510-DS-S